DEPARTMENT OF HEALTH AND HUMAN SERVICES

National Institutes of Health

Submission for OMB Review; 30-Day Comment Request; Conference, Meeting, Workshop, Registration and Challenges Generic Clearance (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, submit comments in writing, or request more information on the proposed project, contact: Ms. Mikia P. Currie, Chief, Project Clearance Branch (PCB), Office of Policy for Extramural Research Administration, 6705 Rockledge Drive, Suite 803-B, Bethesda, Maryland, 20892 or call non-toll-free number (301) 435-0941 or email your request, including your address to: curriem@mail.nih.gov. Formal requests for additional plans and instruments must be requested in writing.

SUPPLEMENTARY INFORMATION: This proposed information collection was previously published in the Federal Register on May 5, 2022, pages 26768 & 26769 (87 FR 26768) and allowed 60 days for public comment. No public comments were received. The purpose of this notice is to allow an additional 30 days for public comment.

The National Institutes of Health may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Conference, Meeting, Workshop, Registration and Challenges Generic Clearance, -0925-0740—REVISION, expiration date 07/31/2022, National Institutes of Health (NIH).

Need and Use of Information Collection: This is a revision of a currently approved generic clearance to include Challenges and Competitions as a means of promoting innovative solutions. As a result of including Challenges and Competitions, the title of this generic has been revised. This generic will continue to provide a quick and efficient process to create registration forms for NIH sponsored conference, meetings, workshops, poster sessions, presentations, and panels. NIH directly sponsors, organizes, and conducts research-related activities such as conferences, workshops, meetings, poster sessions, and training courses. These activities are designed to be relevant to the current state of research in a given field or to the current state of participant's research projects or careers, and other resource limitations and determine the number of possible participants. For such activities to be timely and to optimally use available resources to address needs and opportunities within the research community, it is necessary for NIH to have a means to register and select the most appropriate participants, according to the type or purpose of a given activity.

OMB approval is requested for 3 years. There are no costs to respondents other than their time. The total estimated annualized burden hours are 10,375.

Estimated Annualized Burden Table
Type of request | Number of respondents | Number of responses per respondent | Average burden (in hours) per response | Total burden hours
Conferences | 2,500 | 1 | 1 | 2,500
Meetings | 2,500 | 1 | 45/60 | 1,875
Workshops | 2,500 | 1 | 30/60 | 1,250
Poster Session | 1,000 | 1 | 1 | 1,000
Panels | 1,500 | 1 | 30/60 | 750
Presentations | 1,500 | 1 | 1 | 1,500
Challenges and Competitions | 1,500 | 1 | 1 | 1,500
Total |  | 13,000 |  | 10,375

Dated: July 22, 2022.
Tara A. Schwetz,
Acting Principal Deputy Director, National Institutes of Health.

[FR Doc. 2022-16153 Filed 7-27-22; 8:45 am]

BILLING CODE 4140-01-P